DEPARTMENT OF AGRICULTURE

Forest Service

Dixie National Forest, Utah, Griffin Springs Resource Management Project

AGENCY: Forest Service, USDA.

ACTION: Notice of intent to prepare a supplemental environmental impact statement to the Griffin Springs Resource Management Project.

SUMMARY: The USDA Forest Service announces its intent to prepare a Supplemental Environmental Impact Statement (SEIS) to the Griffin Springs Resource Management Project (GSRMP) Final Environmental Impact Statement (FEIS). The GSRMP FEIS evaluated alternatives for vegetation management and associated road improvements within the Engelmann spruce/subalpine fir and aspen forest types on the Escalante Ranger District, Dixie National Forest.

DATES: Comments concerning the scope of the analysis must be received by October 21, 2002. The draft supplemental environmental impact statement is expected November 2002 and the final supplemental environmental impact statement is expected January 2003.

ADDRESSES: Send written comments to Kevin R. Schulkoski, District Ranger, P.O. Box 246, Escalante, Utah 84726.

FOR FURTHER INFORMATION CONTACT: David M. Keefe, Interdisciplinary Team Leader, Escalante Ranger District (see above ADDRESSES).

SUPPLEMENTARY INFORMATION: On November 16, 1998 a Notice of Intent to prepare an environmental impact statement for the Aquarius Ecosystem Restoration Project (AERP) was published in the Federal Register. On July 26, 1999 a revised Notice of Intent to prepare an environmental impact statement was published in the Federal Register. This revision advised the public that the AERP was being divided into smaller division blocks. The GSRMP is the first of these blocks to be analyzed and decided upon.

On August 3, 2001 the Notice of Availability of the draft environmental impact statement for GSRMP was published in the Federal Register. In January 2002 the FEIS for the GSRMP was published. On January 10, 2002 Mary Wagner, Dixie National Forest Supervisor, signed the Record of Decision for the Griffin Springs Resource Management Project Final Environmental Impact Statement. Several organizations, including the Sierra Glen Canyon Group, Ecology Center, Center for Biological Diversity, Utah Environmental Congress, Boulder Regional Group, Western Watersheds Project, Escalante Wilderness Project, Aquarius Foundation and the Southern Utah Wilderness Alliance, appealed Forest Supervisor Mary Wagner's decision.

On April 28, 2002 Acting Deputy Regional Forester, Elizabeth G. Close (Appeal Deciding Officer) for the Intermountain Region concluded a thorough review of the appeals and issued a decision on the above mentioned appeals. Forest Supervisor Mary Wagner's decision to implement the Griffin Springs Resource Management Project was affirmed with direction. This direction included two points; (1) Although the record contains adequate information to conclude that Northern (or Common) Flicker populations are viable, the summary and explanation of this information in the FEIS must be clarified to confirm this; and (2) The ROD mentions possible future entries in seven years, but the analysis does not clearly document effects from these possible entries in some stands. If new entries, not analyzed with this project, are undertaken in those stands, the Forest must first complete an environmental analysis.

On August 28, 2002 the Appeal Deciding Officer (ADO) for the GSRMP stated that the Forest response fulfilled the direction in the ADO's letter of April 18, 2002. The ADO also responded that the project may not be implemented until the Forest considered the new information contained in the report, “Lift History and Analysis of Endangered, Threatened, Candidate, Sensitive and Management Indicator Species of the Dixie National Forest.” On September 4, 2002 Randall G. Swick, Acting Forest Supervisor, Dixie National Forest, directed the GSRMP Interdisciplinary Team to prepare a Supplemental Environmental Impact Statement that considers this new information relative to the GSRMP.

The Record of Decision for the SEIS will be appealable under 36 CFR 215.7 and should only address those items pertinent to the new information contained in the “Life History and Analysis of Endangered, Threatened, Candidate, Sensitive and Management Indicator Species of the Dixie National Forest” report.

Comments Requested

Based on the new information the USDA Forest Service is now reconsidering the effects of implementing the various alternative on Management Indicator Species (MIS) located in the project area. Accordingly, the USDA Forest Service invites public comment on the scope of the SEIS that would evaluate potential changes in the agencies plans as related to the effects to MIS populations.

Responsible Official

Randall G. Swick, Acting Forest Supervisor, Dixie National Forest, 1789 Wedgewood Lane, Cedar City, Utah 84720.

Dated: September 9, 2002.
Randall G. Swick,
Acting Forest Supervisor.

[FR Doc. 02-23428 Filed 9-12-02; 8:45 am]

BILLING CODE 3410-11-M